DEPARTMENT OF THE TREASURY

Office of Foreign Assets Control

Unblocking of Specially Designated Nationals and Blocked Persons Pursuant to Executive Order 12978

AGENCY: Office of Foreign Assets Control, Treasury.

ACTION: Notice.

SUMMARY: The Treasury Department's Office of Foreign Assets Control (“OFAC”) is publishing the names of the four individuals whose property and interests in property have been unblocked pursuant to Executive Order 12978 of October 21, 1995, Blocking Assets and Prohibiting Transactions With Significant Narcotics Traffickers.

DATES: The unblocking and removal from the list of Specially Designated Nationals and Blocked Persons (“SDN List”) of the four individuals identified in this notice whose property and interests in property were blocked pursuant to Executive Order 12978 of October 21, 1995, is effective on June 22, 2010.

FOR FURTHER INFORMATION CONTACT: Assistant Director, Compliance Outreach & Implementation, Office of Foreign Assets Control, Department of the Treasury, Washington, DC 20220, tel.: 202/622-2490.

Electronic and Facsimile Availability

This document and additional information concerning OFAC are available from OFAC's Web site (http://www.treas.gov/ofac) or via facsimile through a 24-hour fax-on demand service at (202) 622-0077.

Background

On October 21, 1995, the President, invoking the authority, inter alia, of the International Emergency Economic Powers Act (50 U.S.C. 1701-1706) (“IEEPA”), issued Executive Order 12978 (60 FR 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The persons listed in an Annex to the Order; (2) any foreign person determined by the Secretary of the Treasury, in consultation with the Attorney General and Secretary of State: (a) To play a significant role in international narcotics trafficking centered in Colombia; or (b) to materially assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On June 22, 2010 the Director of OFAC removed from the SDN List the four individuals listed below, whose property and interests in property were blocked pursuant to the Order:

1. CARRILLO SILVA, Armando, c/o DROGAS LA REBAJA, Cali, Colombia; c/o INVERSIONES CAMINO REAL S.A., Cali, Colombia; c/o GRACADAL S.A., Cali, Colombia; c/o INTERAMERICA DE CONSTRUCCIONES S.A., Cali, Colombia; c/o ASESORIAS DE INGENIERIA EMPRESA UNIPERSONAL, Cali, Colombia; c/o DISTRIBUIDORA SANAR DE COLOMBIA S.A., Cali, Colombia; c/o PROSPECTIVA EMPRESA UNIPERSONAL, Cali, Colombia; c/o TECNICAS CONTABLES Y ADMINISTRATIVAS, Cali, Colombia; c/o DISTRIBUIDORA DEL VALLE E.U., Cali, Colombia; c/o PROVIDA E.U., Cali, Colombia; DOB 11 Feb 1949; Cedula No. 16242828 (Colombia); Passport 16242828 (Colombia) (individual) [SDNT]

2. MONDRAGON DE RODRIGUEZ, Mariela, c/o MARIELA DE RODRIGUEZ Y CIA. S. EN C., Cali, Colombia; c/o INVERSIONES Y CONSTRUCCIONES COSMOVALLE LTDA., Cali, Colombia; c/o COMPAX LTDA., Cali, Colombia; c/o LABORATORIOS KRESSFOR DE COLOMBIA S.A., Bogota, Colombia; c/o CORPORACION DEPORTIVA AMERICA, Cali, Colombia; c/o INVERSIONES MONDRAGON Y CIA. S.C.S., Cali, Colombia; c/o MARIELA MONDRAGON DE R. Y CIA. S. EN C., Cali, Colombia; c/o CREDIREBAJA S.A., Cali, Colombia; c/o INVERSIONES Y DISTRIBUCIONES A M M LTDA., Cali, Colombia; DOB 12 Apr 1935; Cedula No. 29072613 (Colombia); Passport 4436059 (Colombia) (individual) [SDNT]

3. RODRIGUEZ ABADIA, William, c/o DISTRIBUIDORA MIGIL LTDA., Cali, Colombia; c/o DERECHO INTEGRAL Y CIA. LTDA., Cali, Colombia; c/o M. RODRIGUEZ O. Y CIA. S. EN C., Cali, Colombia; c/o INVERSIONES MIGUEL RODRIGUEZ E HIJO, Cali, Colombia; c/o DISTRIBUIDORA DE DROGAS CONDOR LTDA., Bogota, Colombia; c/o INVERSIONES ARA LTDA., Cali, Colombia; c/o INTERAMERICA DE CONSTRUCCIONES S.A., Cali, Colombia; c/o DEPOSITO POPULAR DE DROGAS S.A., Cali, Colombia; c/o ANDINA DE CONSTRUCCIONES S.A., Cali, Colombia; c/o DISTRIBUIDORA DE DROGAS LA REBAJA S.A., Bogota, Colombia; c/o BLANCO PHARMA S.A., Bogota, Colombia; c/o LABORATORIOS BLAIMAR DE COLOMBIA S.A., Bogota, Colombia; c/o RADIO UNIDAS FM S.A., Cali, Colombia; c/o ASPOIR DEL PACIFICO Y CIA. LTDA., Cali, Colombia; c/o RIONAP COMERCIO Y REPRESENTACIONES S.A., Quito, Ecuador; c/o VALORES MOBILIARIOS DE OCCIDENTE S.A., Bogota, Colombia; c/o LABORATORIOS KRESSFOR DE COLOMBIA S.A., Bogota, Colombia; c/o REVISTA DEL AMERICA LTDA., Cali, Colombia; c/o MUNOZ Y RODRIGUEZ Y CIA. LTDA., Cali, Colombia; c/o CLAUDIA PILAR RODRIGUEZ Y CIA. S.C.S., Bogota, Colombia; c/o PRODUCCIONES CARNAVAL DEL NORTE Y COMPANIA LIMITADA, Cali, Colombia; c/o CREDIREBAJA S.A., Cali, Colombia; c/o ASISTENCIA PROFESIONAL ESPECIALIZADA EN COLOMBIA LIMITADA, Cali, Colombia; c/o BONOMERCAD S.A., Bogota, Colombia; c/o DECAFARMA S.A., Bogota, Colombia; c/o DROCARD S.A., Bogota, Colombia; c/o SEGUWRA DEL VALLE E.U., Cali, Colombia; c/o ALERO S.A., Cali, Colombia; DOB 31 Jul 1965; Cedula No. 16716259 (Colombia) (individual) [SDNT]

4. RODRIGUEZ RAMIREZ, Andre Gilberto, Calle 10 No. 4-47 piso 18, Cali, Colombia; c/o ANDINA DE CONSTRUCCIONES S.A., Cali, Colombia; c/o BONOMERCAD S.A., Bogota, Colombia; c/o CAFE ANDINO S.L., Madrid, Spain; c/o CONSULTORIA SANTAFE E.U., Bogota, Colombia; c/o CREDIREBAJA S.A., Cali, Colombia; c/o DECAFARMA S.A., Bogota, Colombia; c/o DISTRIBUIDORA SANAR DE COLOMBIA S.A., Cali, Colombia; c/o DROCARD S.A., Bogota, Colombia; c/o FOGENSA S.A., Bogota, Colombia; c/o INVERSIONES RODRIGUEZ RAMIREZ Y CIA. S.C.S., Cali, Colombia; c/o INVERSIONES Y CONSTRUCCIONES ABC S.A., Cali, Colombia; c/o ALERO S.A., Cali, Colombia; DOB 22 Mar 1972; Cedula No. 16798937 (Colombia); Passport 16798937 (Colombia) (individual) [SDNT]

Dated: June 22, 2010.
Adam J. Szubin,
Director, Office of Foreign Assets Control.

[FR Doc. 2010-15544 Filed 6-25-10; 8:45 am]

BILLING CODE 4810-AL-P